DEPARTMENT OF TRANSPORTATION

Federal Aviation Administration

Notice of Intent To Request Renewal From the Office of Management and Budget (OMB) of Three Current Public Collections of Information

AGENCY: Federal Aviation Administration (FAA) DOT.

ACTION: Notice.

SUMMARY: In compliance with the Paperwork Reduction Act (44 U.S.C. 33501 et seq.), the FAA invites public comment on two currently approved public information collections which will be submitted to OMB for renewal.

DATES: Comments must be received on or before February 17, 2004.

ADDRESSES: Comments may be mailed or delivered to the FAA at the following address: Ms. Judy Street, Room 613, Federal Aviation Administration, Standards and Information Division, AFP-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0001: Notice of Proposed Construction or Alteration, Notice of Actual Construction or Alteration, and Project Status Report. Federal regulations require that all persons report proposed or actual construction and alteration of structures affecting air safety. The reporting requirements as prescribed in 14 CFR part 77 affect any persons or businesses planning to construct or alter a structure that might affect air safety. The current estimated annual reporting burden is 15,500 hours.

2. 2120-0568: Flight Standards Customer Satisfaction Survey. The Flight Standards Service conducts surveys requiring that every element have contact with their customers to assure that their needs are being met and that service is improved. The respondents are air operators, air agencies, and airmen. The current estimated annual reporting burden is 6,667 hours.

Issued in Washington, DC on December 12, 2003.
Judith D. Street,
FAA Information Collection Clearance Officer, AFP-100.

[FR Doc. 03-31247 Filed 12-18-03; 8:45 am]

BILLING CODE 4910-13-M